COMMISSION ON CIVIL RIGHTS

Agenda and Notice of Public Meeting of the Maryland Advisory Committee to the U.S. Commission on Civil Rights

Date and Time: Wednesday, March 2, 2011; 10:30 a.m. EST.

Place: Via Teleconference. Public Dial in: 1-800-399-0013. Conference ID:#: 43761282.

TDD: Dial 711 for relay services and enter 800-399-0013, followed by Conference ID:#: 43761282.

Notice is hereby given that an orientation meeting and a planning meeting of the Maryland State Advisory Committee to the U.S. Commission on Civil Rights will convene via teleconference. The purpose of the orientation meeting is to review the rules of operation for this federal advisory committee with the newly appointed committee members; the purpose of the planning meeting is to plan the committee's future activities.

Members of the public are entitled to submit written comments; the comments must be received in the regional office within 30 days after the meeting date. Comments may be mailed to the Eastern Regional Office, U.S. Commission on Civil Rights, 624 Ninth Street, NW., Suite 740, Washington, DC 20425. Comments may be faxed to 202-376-7548 or e-mailed to ero@usccr.gov. Persons who desire additional information may contact the Eastern Regional Office by e-mail at ero@usccr.gov or by phone at 202-376-7533.

Records generated from this meeting may be inspected and reproduced at the Eastern Regional Office, as they become available, both before and after the meeting. Persons interested in the work of this advisory committee are directed to the Commission's Web site, http://www.usccr.gov, or may contact the Eastern Regional Office at the above e-mail or street address.

To ensure that the Commission secures an appropriate number of telephone lines for the public, persons are asked to contact the Eastern Regional Office by February 21, 2011 either by e-mail at ero@usccr.gov, or by phone at 202-376-7533.

The meeting will be conducted pursuant to the rules and regulations of the Commission and FACA.

Dated in Washington, DC, February 11, 2011.
Peter Minarik,
Acting Chief, Regional Programs Coordination Unit.

[FR Doc. 2011-3477 Filed 2-15-11; 8:45 am]

BILLING CODE 6335-01-P